DEPARTMENT OF COMMERCE

National Telecommunications and Information Administration

Public Safety Interoperable Communications (PSIC) Grant Program

AGENCY: National Telecommunications and Information Administration, Commerce.

ACTION: Notice of Availability of Funds.

SUMMARY: The Deficit Reduction Act of 2005, Title III of the Deficit Reduction Act of 2005, directed the National Telecommunications and Information Administration (NTIA), in consultation with the Department of Homeland Security (DHS), to establish and implement a $1 billion grant program to assist public safety agencies in the acquisition of, deployment of, or training for the use of interoperable communications systems that utilize, or enable interoperability with communications systems that can utilize, reallocated public safety spectrum for radio communications.

The Public Safety Interoperable Communications (PSIC) Grant Program is a one-time formula-based, matching grant program intended to enhance interoperable communications with respect to voice, data, and/or video signals. PSIC provides public safety agencies with the opportunity to achieve meaningful and measurable improvements to the state of public safety communications interoperability through the full and efficient use of telecommunications resources.

DATES: This final rule is effective on July 23, 2007. Each State and Territory must submit its application and narrative no later than 11:59 p.m. Eastern Daylight Time 30 days after publication in the Federal Register. Failure to properly register and apply for PSIC funds by the deadlines will result in forfeiture of the grant opportunity. Applications submitted by facsimile are not acceptable.

ADDRESSES: To ensure a successful submission, a State Administrative Agency (SAA) must apply for PSIC Grant Program funding through the online Grants.gov system through the Authorized Organization Representative (AOR). Instructions to initiate the registration process is available on the Grants.gov website (www.grants.gov). Application forms and instructions are available at Grants.gov. The application package must be submitted through that Grants.gov. The program title listed in the CDFA is “PSIC Grant Program.” The CDFA number is 11.555.

FOR FURTHER INFORMATION CONTACT: Laura Pettus, Program Specialist, Public Safety Interoperable Communications, telephone: (202) 482-5802; fax: (202) 482-2156. Information about the PSIC can also be obtained electronically via the Internet at www.ntia.doc.gov/psic.

SUPPLEMENTARY INFORMATION:

Electronic Access

The full funding opportunity announcement for the PSIC grant cycle is available through www.grants.gov or by contacting the PSIC website at: www.ntia.doc.gov/psic.

Program Information

The PSIC Grant Program will assist public safety agencies in the acquisition of, deployment of, or training for the use of interoperable communications systems that utilize—or enable interoperability with communications systems that can utilize—reallocated public safety spectrum in the 700 Megahertz (MHz) frequency band. While some regions may not be able to access the 700 MHz frequency band until 2009, public safety agencies are still eligible for funding to help meet their interoperability needs so long as the proposed solutions are designed to interoperate with the 700 MHz band in the future. NTIA is seeking solutions from public safety agencies that (1) Achieve meaningful and measurable improvements in the state of interoperability for public safety communications and (2) fill interoperability gaps identified in the Statewide Plans.

NTIA recognizes that many solutions exist to achieve interoperability, and the PSIC Grant Program will not dictate a specific technology solution for public safety agencies. However, NTIA has identified the following technology and all hazards related priorities that States and Territories must consider when selecting projects for PSIC funding:

1. Technology

a. Adopt advanced technological solutions

b. Improve spectrum efficiency

c. Use cost-effective measures

2. All Hazards Mitigation

a. Improve communications in areas at high risk for natural disasters

b. Continue to improve interoperability efforts in urban and metropolitan areas at high risk for threats of terrorism

Funding Availability

The PSIC Grant Program will make $968,385,000 available in grant awards. The table below identifies available PSIC funding for each State and Territory:

Table 1 - PSIC State/Territory Allocation
State/Territory | PSIC Funding
Alabama | $13,585,399
Alaska | $7,250,345
American Samoa | $691,948
Arizona | $17,713,050
Arkansas | $11,169,402
California | $94,034,510
Colorado | $14,336,638
Connecticut | $12,999,879
Delaware | $8,196,842
District of Columbia | $11,857,972
Florida | $42,888,266
Georgia | $25,311,354
Guam | $2,600,678
Hawaii | $8,069,879
Idaho | $7,289,795
Illinois | $36,414,263
Indiana | $18,291,735
Iowa | $10,935,974
Kansas | $10,667,169
Kentucky | $15,405,625
Louisiana | $19,672,287
Maine | $7,567,579
Maryland | $22,934,593
Massachusetts | $21,191,988
Michigan | $25,039,781
Minnesota | $14,262,071
Mississippi | $10,989,345
Missouri | $17,465,576
Montana | $6,549,685
Nebraska | $8,582,108
Nevada | $12,042,417
New Hampshire | $5,966,760
New Jersey | $30,806,646
New Mexico | $8,288,725
New York | $60,734,783
North Carolina | $22,130,199
North Dakota | $7,052,490
Northern Mariana Islands | $719,236
Ohio | $29,377,337
Oklahoma | $11,684,183
Oregon | $12,182,532
Pennsylvania | $34,190,555
Puerto Rico | $9,590,025
Rhode Island | $7,365,694
South Carolina | $13,499,308
South Dakota | $6,549,691
Tennessee | $17,540,752
Texas | $65,069,247
U.S. Virgin Islands | $856,907
Utah | $10,353,261
Vermont | $4,476,761
Virginia | $25,012,521
Washington | $19,180,347
West Virginia | $8,429,484
Wisconsin | $15,367,216
Wyoming | $5,952,187
Total | $968,385,000

Statutory and Regulatory Authority

PSIC grants are authorized by Section 3006 of the Deficit Reduction Act of 2005, Pub. L. No. 109-171, and Section 4 of the Call Home Act of 2006, Pub. L. No. 109-459.

Catalog of Domestic Federal Assistance

11.555, Public Safety Interoperable Communications Grant Program

Eligibility

To apply for and receive a PSIC grant, an applicant must be one of the 56 States and Territories. The Governor of each State has designated a State Administrative Agent (SAA), which can apply for and administer the funds under the PSIC Grant Program. The SAA is the only agency eligible to apply for PSIC funds. Additionally, the SAA is the grantee in the management and administration of all funds provided through this award. The SAA is responsible for obligating PSIC funds to eligible pass-through recipients. A recipient must be a public safety agency that is a State, local, or tribal government entity or nongovernmental organization authorized by such entity, whose sole or principal purpose is to protect safety of life, health, or property.

Evaluation Criteria

Eligible applicants must follow the three steps to apply for PSIC funds: submit an application and brief narrative, submit a Statewide Communications Interoperability Plan (Statewide Plan), and submit Investment Justification(s). The first step includes submitting an application on Grants.gov. NTIA and DHS program staff will review each application for completeness and adherence to PSIC program rules. Applications will be approved by the Assistant Secretary for Communications and Information, Department of Commerce, and PSIC funds will be awarded no later than September 30, 2007. The second step includes submitting a Statewide Plan, as required by Section I.C.5 of the 2006 Homeland Security Grant Program Guidance and Application Kit. Each State and Territory must submit its final Statewide Plan by November 1, 2007. The Statewide Plan will be reviewed by peer and subject matter expert groups and approved by the Department of Homeland Security. NTIA will also review each Statewide Plan to ensure that States and Territories address the three PSIC requirements set forth below. The third step includes submitting Investment Justification(s), which must be submitted by November 1, 2007. The Investment Justifications are to be submitted in conjunction with final Statewide Plans to the National Preparedness Directorate (NPD) Secure Portal at https://odp.esportals.com. The Investment Justification(s) will also be reviewed by peer and subject matter expert groups as well as NTIA and DHS program staff. Based on the recommendations of the peer and subject matter expert groups and NTIA and DHS program staff, the Assistant Secretary for Communications and Information, will approve Investment Justifications. If the peer review and subject matter groups include any non-federal employees no consensus advice will be provided by the groups. The applications and Investment Justification(s) are information collections subject to the Paperwork Reduction Act, and have been approved by the Office of Management and Budget under their respective OMB control numbers. See heading entitled Paperwork Reduction Act below.

Funding Priorities and Selection Factors

NTIA recognizes that many solutions exist to achieve interoperability, and the PSIC Grant Program will not dictate the technology or approach for public safety agencies. However, NTIA has identified that when selecting projects for PSIC funding States and Territories must consider: (1) Technology, including adoption of advanced technological solutions, improved spectrum efficiency, and cost effective measures; and (2) solutions that support capabilities in response to all hazards approach regardless of their source or cause, including improving communications in areas at high risk for natural disasters and in urban and metropolitan areas at high risk for threats of terrorism.

In addition, NTIA will review each Statewide Plan to ensure that States and Territories address the following three PSIC requirements: How public safety agencies will acquire, deploy, and train on communications systems that use—or enable interoperability with communications systems that use—the public safety spectrum in the 700 megahertz frequency band; how local and tribal government entities' interoperable communications needs have been included in the planning process and how their needs are being addressed, if applicable; and how authorized nongovernmental organizations' interoperable communications needs have been included in the planning process and how their needs are being addressed, if applicable.

Cost Sharing Requirements

The PSIC Grant Program requires cost sharing. By statute, each public safety agency receiving PSIC funds is required to meet and document the 20 percent statutory match requirement for each project. The SAA is required to track and report the 20 percent match requirement for each individual project that receives PSIC funds for efforts other than training, which do not require any match. The match requirements can be met through cash or in-kind sources consistent with 15 CFR §§ 24.3, 24.24. This documentation must demonstrate that match funds are from non-federal sources. As provided in 48 U.S.C. § 1469a, the matching requirement does not apply to the first $200,000 in grant funds awarded to the Territorial governments in Guam, American Samoa, the U.S. Virgin Islands, and the Commonwealth of the Northern Mariana Islands. Training activities are excluded from this match requirement; however, training activities can make up no more than 20 percent of a State's or Territory's total investments.

Intergovernmental Review

This program is subject to the provisions of Executive Order 12372, which requires intergovernmental consultation with State and local officials. See 7 CFR Part 3015, subpart V.

Universal Identifier

The SAA must provide a Dun and Bradstreet (D&B) Data Universal Numbering System (DUNS) number with the PSIC application. This number is a required field within Grants.gov and for CCR Registration. Organizations should verify that they have a DUNS number or take the steps necessary to obtain one as soon as possible. (Applicants can receive a DUNS number at no cost by calling the dedicated toll-free DUNS Number request line at 1-800-333-0505 or via the Internet (www.dunandbradstreet.com).

Limitation of Liability

In no event will the Department of Commerce be responsible for proposal preparation costs if this program fails to receive funding or is cancelled because of other agency priorities. Publication of this announcement does not obligate the agency to award any specific project or to obligate any available funds.

Paperwork Reduction Act

Notwithstanding any other provision of the law, no person is required to respond to, nor shall any person be subject to a penalty for failure to comply with, a collection of information subject to the requirements of the Paperwork Reduction Act (PRA), unless that collection displays a currently valid Office of Management and Budget (OMB) control number. The use of Standard Forms 424, 424A, 424B, 424D, and SF-LLL has been approved by OMB under the respective control numbers 0348-0043, 0348-0044, 0348-0040, 0348-0042, and 0348-0046. The Investment Justification is an element required under Standard Form 424A and has been approved by OMB under control number 0348-0044.

Executive Order 12866

This rule has been determined to be Economically Significant under Executive Order 12866. NTIA was directed by the Deficit Reduction Act of 2005 to implement the PSIC Grant Program. The Act authorized NTIA to implement a grant program to assist public safety agencies in the acquisition of, deployment of, or training for the use of interoperable communications systems that utilize reallocated public safety spectrum for radio communications. The PSIC Grant Program will make $968,385,000 (2007) available in grant awards. This is a one-time transfer program where funds will be awarded no later than September 30, 2007.

Executive Order 13132, Federalism

It has been determined that this notice does not contain policies with Federalism implications as that term is defined in Executive Order 13132.

Administrative Procedure Act/Regulatory Flexibility Act

Prior notice and opportunity for public comment are not required by the Administrative Procedure Act or any other law for this rule concerning grants, benefits, and contracts (5 U.S.C. § 553(a)(2)). Because notice and opportunity for comment are not required pursuant to 5 U.S.C. § 553 or any other law, the analytical requirements of the Regulatory Flexibility Act (5 U.S.C. § 601 et seq.) are inapplicable. Therefore, a regulatory flexibility analysis has not been prepared.

Congressional Review of Agency Rulemaking

NTIA has submitted this final rule to the Congress and the Government Accountability Office under the Congressional Review of Agency Rulemaking Act, 5 U.S.C. § 801 et seq. The rule is a “major rule” within the meaning of the Act because it will result in an annual effect on the economy of $100,000,000 or more. The rule sets out the administrative procedures for making grants to State, local, tribal and other public safety agencies to improve their communications interoperability in response to manmade and natural disasters. NTIA will award $968,385,000 available in grants under this program.

NTIA serves as the President' principal adviser on telecommunications and information policies and its mission includes assisting the Executive Branch in the development of policies and standards related to interoperability, spectrum use, and emergency readiness.¹ Improving public safety interoperable communications for our nation's first responders has increasingly become a national priority in the wake of terrorism incidents, including 9/11, and natural disasters such as Hurricane Katrina.²

¹ See 47 U.S.C. § 902(b)(2)(D),(H).

² See e.g., The 9/11 Commission Report, at 397 (July 2004); Public Safety Communications from 9/11 to Katrina: Critical Public Policy Lessons, 109th Cong. 1-4 (Sept. 29, 2005) (statement of Representative Fred Upton, Chairman, Subcommittee on Telecommunications and the Internet, House Committee on Energy and Commerce); Communications Interoperability - Session I, 109th Cong. (Sept 29, 2005) (statement of Senator Ted Stevens, Chairman, Committee on Commerce, Science, and Transportation, at http://commerce.senate.gov/public/index.cfm? FuseAction=Hearings. Statement&Statement_ID=126); The Federal Response to Hurricane Katrina Lesson Learned, at 44 (Feb. 2006).

Consistent with that objective, Congress enacted and the President signed into law on February 8, 2006, the Digital Television and Public Safety Act of 2005, Title III of the Deficit Reduction Act of 2005. Among other things, this statute makes available analog television spectrum available for new communications services, including public safety interoperable communications in the 700 MHz band, by terminating television licenses in these frequencies on February 17, 2009. In addition, the Act requires the returned analog television spectrum be auctioned and the proceeds used to fund various new programs to promote the digital television transition, to improve public safety interoperable communications, and to reduce the deficit.

Specifically, Section 3006 of the Act directs NTIA to establish and implement a $1 billion grant program to assist public safety agencies in the acquisition of, deployment of, or training for the use of interoperable communications systems that utilize, or enable interoperability with communications systems that can utilize, reallocated public safety spectrum for radio communications in the 700 MHz band. To spur the rapid distribution of these grant funds to our nation's first responders, the Act authorizes NTIA to borrow the funds needed for the grants as of October 1, 2006, well in advance of the receipt of auction proceeds. To further ensure the swift award of these grants to public safety agencies, Congress subsequently enacted and the President signed into law on December 22, 2006, the Call Home Act of 2006. Section 4 of this statute requires NTIA to make grant awards no later than September 30, 2007.

A 60-day delay in implementing this final rule would hamper NTIA's mission to improve public safety interoperable communications and be contrary to clear Congressional intent as expressed in Section 3006 of the Deficit Reduction Act and Section 4 of the Call Home Act. If NTIA is not able to implement this program and make awards under this program before September 30, 2007, the $1 billion may not be available after September 30, 2007 for NTIA to fulfill its statutory mandate. In order for NTIA to comply with this statutory mandate, eligible entities must submit applications no later than 30 days after publication in the Federal Register. Thus, in compliance with section 808(2) of the Congressional Review of Agency Rulemaking Act, 5 U.S.C. § 808(2), for good cause, NTIA finds that notice and public comment on this final rule is impracticable and contrary to the public interest. Accordingly, this final rule is effective on July 23, 2007.

Dated: July 18, 2007.
John M.R. Kneuer,
Assistant Secretary for Communications and Information.

[FR Doc. 07-3569 Filed 7-20-07; 8:45 am]

BILLING CODE 3510-60-P